DEPARTMENT OF COMMERCE

National Oceanic and Atmospheric Administration

[I.D. 082800D]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Atlantic Herring Advisory Panel on September 14, 2000 to consider actions affecting New England fisheries in the exclusive economic zone (EEZ). Recommendations from the panel will be brought to the Herring Oversight Committee and the full Council for formal consideration and action, if appropriate.

DATES: The meeting will be held on September 14, 2000, at 9:30 a.m.

ADDRESSES:

The meeting will be held at the Holiday Inn Portsmouth, 300 Woodbury Avenue, Portsmouth, NH 03801; telephone: (603) 431-8000.

FOR FURTHER INFORMATION CONTACT: Paul J. Howard, Executive Director, New England Fishery Management Council; (978) 465-0492.

SUPPLEMENTARY INFORMATION: The panel will develop recommendations for conditions and restrictions on permits for foreign vessels fishing for Atlantic herring in the U.S. EEZ. The Council has recommended to NMFS that up to 5,000 metric tons (mt) of herring be available for foreign fishing in 2001. To date, the Council has received a permit application from Lithuania for a portion (1,000 mt) of the total allowable foreign fishing specification (TALFF), in conjunction with an application to purchase 2,000 mt of herring through joint ventures (JV). The panel will develop recommendations on this particular permit, and provide recommendations on general conditions and restrictions for any future permit applications for the remainder of the 2001 TALFF that may be forthcoming.

The panel also will discuss issues and options for a limited entry/controlled access program for the herring fishery. Although the Council is not currently proposing such a program, it has indicated that it may consider one in the future and requests the panel to discuss the matter.

A third item before the panel is the annual specification of limits on the amount of herring available for U.S. at-sea processing by vessels greater than 165 feet in length and 750 gross tons (USAP). The Herring Fishery Management Plan (pending publication of a Final Rule) requires the Council to make such a specification. The Herring Plan Development Team recommends against retaining USAP as an annual specification because it increases the project's uncertainty for potential investors in a large domestic processing vessel and limits the potential for this portion of the domestic allowable processing (DAP) specification to be utilized. If the Council decides to make this change to the plan, it would have to do so through a plan amendment or framework adjustment.

Although non-emergency issues not contained in this agenda may come before this Panel for discussion, in accordance with the Magnuson-Stevens Fishery Conservation and Management Act, those issues may not be the subject of formal action during this meeting. Action will be restricted to those issues specifically identified in this notice and any issues arising after publication of this notice that require emergency action under Section 305(c) of the Magnuson-Stevens Act, provided the public has been notified of the Council’s intent to take action to address the emergency.

Special Accommodations

These meetings are physically accessible to people with disabilities. Requests for sign language interpretation or other auxiliary aids should be directed to Paul J. Howard (see ADDRESSES) at least 5 days prior to the meeting dates.

Dated: August 28, 2000.
Richard W. Surdi,
Acting Director, Office of Sustainable Fisheries, National Marine Fisheries Service.

[FR Doc. 00-22349 Filed 8-30-00; 8:45 am]

Billing Code: 3510-22-S